DEPARTMENT OF THE INTERIOR

National Park Service

[NPS-SERO-CANA-16428; PPSESEROC3, PMP00UP05.YP0000]

Record of Decision for the General Management Plan, Canaveral National Seashore

AGENCY: National Park Service, Interior.

ACTION: Notice of Availability.

SUMMARY: Pursuant to the National Environmental Policy Act of 1969, Section 42 U.S.C. 4332(2)(C), the National Park Service (NPS) announces the availability of the Record of Decision (ROD) for the General Management Plan (GMP) for Canaveral National Seashore (Seashore). On August 12, 2014 the Regional Director, Southeast Region, approved the ROD for the project.

FOR FURTHER INFORMATION CONTACT: Superintendent Myrna Palfrey, Canaveral National Seashore, 212 S. Washington Avenue, Titusville, FL 32796; telephone (321) 267-1110.

SUPPLEMENTARY INFORMATION: The FEIS/GMP evaluated four alternatives for managing use and development of the Seashore:

• Alternative A was the No-Action Alternative and is the continuation of current management.

• The NPS preferred alternative was Alternative B. Under this alternative, emphasis would be placed on retaining the Seashore's relatively undeveloped character and providing uncrowded experiences by dispersing visitors via a shuttle service or canoe, kayak, hiking and walking trails, and bicycle trails. Elements of this alternative would support the resilience of the Seashore to climate change concerns, such as sea level rise, coastal erosion, and higher storm surges, all of which may affect cultural and natural resources as well as visitor experience at the Seashore.

• Under Alternative C the Seashore would be managed as a place where visitors would explore and experience a wide range of opportunities that would be designed to provide an in-depth understanding of the natural and cultural history of eastern coastal Florida. When visitors enter the Seashore, they would be presented with choices for alternative modes of access to land- and water-based natural and cultural features, appropriate recreational opportunities, and educational pursuits. Enhanced development related to recreational opportunities and educational pursuits would be pursued.

• Under Alternative D the Seashore would be managed to focus on enhancing the existing lands, resources, and facilities. Limited facility development would provide more efficient NPS administration and operations and enhanced visitor amenities. Coordination with partners would be increased to provide additional educational opportunities and programs for visitors and enhanced monitoring of Mosquito Lagoon resources.

The ROD selected Alternative B, which the NPS intends to implement as soon as possible and which will guide the management of the Seashore over the next 20+ years.

The responsible official for this FEIS/GMP is the Regional Director, NPS Southeast Region, 100 Alabama Street SW., 1924 Building, Atlanta, Georgia 30303.

Dated: October 1, 2014.
Stan Austin,
Regional Director, Southeast Region.

[FR Doc. 2014-25584 Filed 10-27-14; 8:45 am]

BILLING CODE 4310-JD-P